NUCLEAR REGULATORY COMMISSION

[NRC-2012-0321]

Biweekly Notice; Applications and Amendments to Facility Operating Licenses and Combined Licenses Involving No Significant Hazards Considerations

Background

Pursuant to Section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from December 13, 2012 to December 26, 2012. The last biweekly notice was published on December 11, 2012 (77 FR 73684).

ADDRESSES: You may access information and comment submissions related to this document, which the NRC possesses and is publicly available, by searching on http://www.regulations.gov under Docket ID NRC-2012-0321. You may submit comments by the following methods:

• Federal rulemaking Web site: Go to http://www.regulations.gov and search for Docket ID NRC-2012-0321. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2012-0321 when contacting the NRC about the availability of information regarding this document. You may access information related to this document, which the NRC possesses and is publicly available, by the following methods:

• Federal Rulemaking Web Site: Go to http://www.regulations.gov and search for Docket ID NRC-2012-0321.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2012-0321 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Rules of Practice for Domestic Licensing Proceedings” in 10 CFR Part 2. Interested person(s) should consult a current copy of 10 CFR 2.309, which is available at the NRC's PDR, located at One White Flint North, Room O1-F21, 11555 Rockville Pike (first floor), Rockville, Maryland 20852. NRC regulations are accessible electronically from the NRC Library on the NRC Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the NRC's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call to 1-866 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the following three factors in 10 CFR 2.309(c)(1): (i) The information upon which the filing is based was not previously available; (ii) the information upon which the filing is based is materially different from information previously available; and (iii) the filing has been submitted in a timely fashion based on the availability of the subsequent information.

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC PDR Reference staff at 1-800-397-4209, 301-415-4737, or by email to pdr.resource@nrc.gov.

Exelon Generation Company, LLC, Docket Nos. 50-352 and 50-353, Limerick Generating Station, Units 1 and 2, Montgomery County, Pennsylvania

Date of amendment request: November 14, 2012.

Description of amendment request: The proposed amendment would relocate the Technical Specification (TS) requirements for motor-operated valve thermal overload protection from the TSs to the Technical Requirements Manual (TRM). The TRM is a licensee-controlled document.

Basis for proposed no significant hazards consideration determination: As required by 10 CFR 50.91(a), the licensee has provided its analysis of the issue of no significant hazards consideration, which is presented below:

1. Do the proposed changes involve a significant increase in the probability or consequences of an accident previously evaluated?

Response: No.

The proposed changes relocate the motor operated valve (MOV) thermal overload (TOL) protection operability and surveillance requirements from the Limerick Generating Station (LGS) Technical Specifications (TS) to a licensee-controlled document under the control of 10 CFR 50.59.

The proposed changes do not alter the physical design of any plant structure, system, or component; therefore, the proposed changes have no adverse effect on plant operation, or the availability or operation of any accident mitigation equipment. The plant response to the design basis accidents does not change. Operation or failure of the MOV TOL protection bypass capability is not assumed to be an initiator of any analyzed event in the Updated Final Safety Analysis Report (UFSAR) and cannot cause an accident. Whether the requirements for the MOV TOL protection bypass capability are located in TS or another licensee-controlled document has no effect on the probability or consequences of any accident previously evaluated.

The proposed changes conform to NRC regulatory requirements regarding the content of plant TS as identified in 10 CFR 50.36, and also the guidance as approved by the NRC in NUREG-1433, “Standard Technical Specifications—General Electric BWR/4 Plants.”

Therefore, the proposed changes do not involve a significant increase in the probability or consequences of an accident previously evaluated.

2. Do the proposed changes create the possibility of a new or different kind of accident from any accident previously evaluated?

Response: No.

The proposed changes relocate the MOV TOL protection operability and surveillance requirements from the LGS TS to a licensee-controlled document under the control of 10 CFR 50.59.

The proposed changes do not alter the plant configuration (no new or different type of equipment is being installed) or require any new or unusual operator actions. The proposed changes do not alter the safety limits or safety analysis assumptions associated with the operation of the plant. The proposed changes do not introduce any new failure modes that could result in a new accident. The proposed changes do not reduce or adversely affect the capabilities of any plant structure, system, or component in the performance of their safety function.

Also, the response of the plant and the operators following the design basis accidents is unaffected by the proposed changes.

Therefore, the proposed changes do not create the possibility of a new or different kind of accident from any accident previously evaluated.

3. Do the proposed changes involve a significant reduction in a margin of safety?

Response: No.

The proposed changes have no adverse effect on plant operation, or the availability or operation of any accident mitigation equipment. The plant response to the design basis accidents does not change. The proposed changes do not adversely affect existing plant safety margins or the reliability of the equipment assumed to operate in the safety analyses. There is no change being made to safety analysis assumptions, safety limits or limiting safety system settings that would adversely affect plant safety as a result of the proposed changes.

In addition, the relocated requirements do not meet any of the 10 CFR 50.36c(2)(ii) criteria on items for which TS must be established. Operability and surveillance requirements will be established in a licensee-controlled document to ensure the reliability of MOV TOL protection bypass capability. Changes to these requirements will be subject to the controls of 10 CFR 50.59, providing the appropriate level of regulatory control.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: J. Bradley Fewell, Esquire, Associate General Counsel, Exelon Generation Company, LLC, 4300 Winfield Road, Warrenville, IL 60555.

NRC Branch Chief: Meena K. Khanna.

FirstEnergy Nuclear Operating Company (FENOC), et al., Docket No. 50-440, Perry Nuclear Power Plant, Unit No. 1 (PNPP), Lake County, Ohio

Date of amendment request: September 5, 2012.

Description of amendment request: The proposed amendment would modify PNPP's Technical Specifications (TS) Table 3.3.5.1, “Emergency Core Cooling System (ECCS) Instrumentation,” footnote (a) to require ECCS instrumentation to be operable only when the associated ECCS subsystems are required to be operable. This proposed change is consistent with Nuclear Regulatory Commission (NRC)-approved TS Task Force (TSTF) Change Traveler TSTF-275-A, Revision 0.

Additionally, the proposed amendment would add exceptions to the diesel generator (DG) surveillance requirements (SRs) for TS 3.8.2, “AC Sources—Shutdown,” to eliminate the requirement that the DG be capable of responding to ECCS initiation signals while the ECCS subsystems are not required to be operable. This proposed change is consistent with NRC-approved TSTF-300-A, Revision 0.

Basis for proposed no significant hazards consideration determination: As required by Title 10 of the Code of Federal Regulations (10 CFR), Section 50.91(a), the licensee has provided its analysis of the issue of no significant hazards consideration, which is presented below:

1. Does the proposed change involve a significant increase in the probability or consequences of an accident previously evaluated?

Response: No.

This proposed amendment involves changes to Technical Specification Table 3.3.5.1-1, “Emergency Core Cooling System [ECCS] Instrumentation,” and Surveillance Requirement 3.8.2.1 for alternating current sources during shutdown.

The proposed changes to Table 3.3.5.1-1 ensures that ECCS instrumentation is only required to be operable when the ECCS subsystems and annulus exhaust gas treatments subsystems are required to be operable. These changes ensure ECCS instrumentation that actuates ECCS subsystems and annulus exhaust gas treatment subsystems are required to be operable to perform their function as described in the safety analysis, and do not involve physical changes to plant systems, structures or components. The proposed changes to Table 3.3.5.1-1 do not affect plant operations or design functions, and do not increase the likelihood of a malfunction.

The surveillance requirement change eliminates the requirement that the diesel generator be capable of responding to ECCS initiation signals when the ECCS injection/spray subsystems are not required to be operable. The modified surveillance requirements do not involve physical changes to plant systems, structures or components, and would not cause the plant to be operated in a new or different manner. No new failure mechanisms, malfunctions, or accident initiators would be introduced by the proposed changes. The required equipment continues to be tested in a manner and at a frequency necessary to provide confidence that the equipment can perform its intended safety function. If the ECCS subsystems are not required to be operable, there is no benefit to maintaining diesel generator capability to respond to ECCS initiation signals. The proposed surveillance requirement change does not affect plant operations or design functions, and does not increase the likelihood of a malfunction.

Therefore, the proposed amendment does not involve a significant increase in the probability or consequences of an accident previously evaluated.

2. Does the proposed change create the possibility of a new or different kind of accident from any accident previously evaluated?

Response: No.

The proposed Technical Specification changes would correctly identify the applicable modes or other specified conditions for which ECCS instrumentation is required to be operable and revises requirements for when certain surveillances are to be performed. These changes would not result in revisions of plant design, physical alteration of a plant structure, system, or component, or installation of new different types equipment. No new failure mechanisms, malfunctions, or accident initiators would be introduced by the proposed changes. Therefore, the proposed amendment does not create the possibility of a new or different kind of accident from any accident previously evaluated.

3. Does the proposed change involve a significant reduction in a margin of safety?

Response: No.

The proposed changes have no effect on design basis, safety limits, or safety analysis assumptions or methods of performing safety analyses. The changes do not adversely affect system operability or design requirements and the equipment continues to be tested in a manner and at a frequency necessary to provide confidence that the equipment can perform its intended safety function.

Therefore, the proposed amendment does not result in any reduction in a margin of safety.

Based on the above, FirstEnergy Nuclear Operating Company concludes that the proposed amendment does not involve a significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the requested amendment involves no significant hazards consideration.

Attorney for licensee: David W. Jenkins, Attorney, FirstEnergy Corporation, Mail Stop.

A-GO-15, 76 South Main Street, Akron, OH 44308.

NRC Branch Chief: Michael I. Dudek.

NRC Branch Chief: Michael I. Dudek.

Florida Power and Light Company, Docket Nos. 50-250 and 50-251, Turkey Point Nuclear Generating Units 3 and 4, Miami-Dade County, Florida

Date of amendment request: September 14, 2012.

Description of amendment request: The proposed amendments would revise the licenses and the Technical Specifications (TSs) to (1) close and remove license conditions that have been fully satisfied as of the end of the Unit 3 Cycle 26 refueling outage, (2) revise TS 5.5.1 to remove related license conditions, (3) correct several inadvertent errors in the TS, and (4) update the reference to the Physical Security Plan to the latest approved revision in the related license conditions.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendments do not change or modify the fuel, fuel handling processes, fuel storage racks, number of fuel assemblies that may be stored in the spent fuel pool (SFP), decay heat generation rate, or the spent fuel pool cooling and cleanup system. The proposed amendments only limit crediting of burnable absorbers in the spent fuel pool to Integrated Fuel Burnable Absorber (IFBA) rods that were specifically addressed in the currently approved criticality analysis [WCAP-17094-P, Revision 3, “Turkey Point, Units 3 and 4 New Fuel Storage Rack and Spent Fuel Pool Criticality Analysis,” February 2011]. The removal of the phrase “or an equivalent amount of another burnable absorber” eliminates the possibility of crediting a burnable absorber other than IFBA for storage of spent fuel assemblies in the spent fuel pool without prior NRC [U.S. Nuclear Regulatory Commission] approval. The deletion of the license condition associated with the Boraflex Remedy is editorial as it is no longer applicable. The proposed amendments do not affect the ability of the BAST [boric acid storage tank] to perform its function or the ability of the CREVS [control room emergency ventilation system] to perform its function. These latter proposed TS changes correct inadvertent errors and are consistent with the stated intent of original license submittals or delete license conditions that have been fully satisfied.

The proposed amendments do not cause any physical change to the existing spent fuel storage configuration or fuel makeup. The proposed amendments do not affect any precursors to any accident previously evaluated or do not affect any known mitigation equipment or strategies.

Therefore, the proposed changes do not involve a significant increase in the probability or consequences of an accident previously evaluated.

2. Does the proposed amendment create the possibility of a new or different kind of accident from any accident previously evaluated?

Response: No.

The proposed amendments do not change or modify the fuel, fuel handling processes, fuel racks, number of fuel assemblies that may be stored in the pool, decay heat generation rate, or the spent fuel pool cooling and cleanup system. The proposed amendments do not result in any changes to spent fuel or to fuel storage configurations. The removal of the phrase “or an equivalent amount of another burnable absorber” eliminates the possibility of crediting a burnable absorber other than IFBA for storage of spent fuel assemblies in the spent fuel pool without prior NRC approval. The proposed amendments do not affect the ability of the BAST to perform its function or the ability of the CREVS to perform its function. These latter proposed TS changes correct inadvertent errors and are consistent with the stated intent of the original license submittals, delete license conditions that are no longer applicable or have been fully satisfied.

Therefore, the proposed changes do not create the possibility of a new or different kind of accident from any accident previously evaluated.

3. Does the proposed amendment involve a significant reduction in the margin of safety?

Response: No.

The proposed amendments do not change or modify the fuel, fuel handling processes, fuel racks, number of fuel assemblies that may be stored in the pool, decay heat generation rate, or the spent fuel pool cooling and cleanup system. Therefore, the proposed amendments have no impact to the existing margin of safety for subcriticality required by 10 CFR 50.68 (b)(4). The other proposed TS changes correct inadvertent errors and are consistent with the stated intent of the original license submittals or delete license conditions that are no longer applicable or have been fully satisfied.

Therefore, the proposed amendments do not involve a significant reduction in the margin of safety.

The NRC staff has reviewed the licensee's analysis and, based on this review, it appears that the three standards of 10 CFR 50.92(c) are satisfied. Therefore, the NRC staff proposes to determine that the amendment request involves no significant hazards consideration.

Attorney for licensee: James Petro, Managing Attorney—Nuclear, Florida Power & Light, P.O. Box 14000, Juno Beach, Florida 33408-0420.

NRC Acting Branch Chief: Jessie F. Quichocho.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Arizona Public Service Company, et al., Docket Nos. STN 50-528, STN 50-529, and STN 50-530, Palo Verde Nuclear Generating Station, Unit Nos. 1, 2, and 3, Maricopa County, Arizona

Date of application for amendment: August 10, 2012, as supplemented by letters dated September 4, October 11, and November 16, 2012.

Brief description of amendment: The amendments revised the basis and description for Milestones 6 and 7 of the licensee's Cyber Security Plan implementation schedule. In addition, the amendments revised paragraph 2.E of the facility operating licenses.

Date of issuance: December 13, 2012.

Effective date: As of the date of issuance and shall be implemented within 60 days from the date of issuance.

Amendment No.: Unit 1—190; Unit 2—190; Unit 3—190.

Facility Operating License Nos. NPF-41, NPF-51, and NPF-74: The amendments revised the Operating Licenses.

Date of initial notice in Federal Register: October 9, 2012 (77 FR 61436). The supplemental letters dated October 11 and November 16, 2012, provided additional information that clarified the application, did not expand the scope of the application as originally noticed, and did not change the staff's original proposed no significant hazards consideration determination as published in the Federal Register.

The Commission's related evaluation of the amendments is contained in a Safety Evaluation dated December 13, 2012.

No significant hazards consideration comments received: No.

Carolina Power and Light Company, Docket Nos. 50-325 and 50-324, Brunswick Steam Electric Plant, Units 1 and 2, Brunswick County, North Carolina

Carolina Power & Light Company, Docket No. 50-261, H. B. Robinson Steam Electric Plant, Unit No. 2, Darlington County, South Carolina

Carolina Power & Light Company, et al., Docket No. 50-400, Shearon Harris Nuclear Power Plant, Unit 1, Wake and Chatham Counties, North Carolina

Florida Power Corporation, et al., Docket No. 50-302, Crystal River Unit 3 Nuclear Generating Plant Citrus County, Florida

Date of application for amendments: September 12, 2012.

Brief Description of amendments: These amendments revised the Cyber Security Plan Implementation Schedule as approved in the license amendments issued on July 29, 2011 (ADAMS Accession No. ML11193A028).

Date of issuance: December 18, 2012.

Effective date: These license amendments are effective as of the date of their issuance and shall be implemented by December 31, 2012.

Amendment Nos.: Brunswick 1: 261, Brunswick 2: 289, Robinson 2: 230, Shearon Harris 1: 140, and Crystal River 3: 242.

Renewed Facility Operating License Nos. DPR-71, DPR-62, DPR-23, and NPF-63; and Facility Operating License No. DPR-72.

Amendments revised the facility operating licenses.

Date of initial notice in Federal Register: October 16, 2012 (77 FR 63347).

The Commission's related evaluation of these amendments is contained in a Safety Evaluation dated December 18, 2012.

No significant hazards consideration comments received: No.

Detroit Edison Company, Docket No. 50-341, Fermi 2, Monroe County, Michigan

Date of application for amendment: January 10, 2012, supplemented by letter dated July 6, 2012.

Brief description of amendment: The amendment revises Surveillance Requirement (SR) 3.4.3.2, in TS 3.4.3, “Safety Relief Valves (SRVs)”, SR 3.5.1.13, in TS 3.5.1, “ECCS-Operating,” and SR 3.6.1.6.1, in TS 3.6.1.6, “Low-Low Set (LLS) Valves.” The amendment replaces the current requirement in these TS SRs to verify the SRV opens when manually actuated with an alternate requirement that verifies the SRV is capable of being opened.

Date of issuance: December 21, 2012.

Effective date: As of the date of issuance and shall be implemented prior to startup from Refueling Outage 16.

Amendment No.: 190.

Facility Operating License No. NPF-43: Amendment revised the Technical Specifications and License.

Date of initial notice in Federal Register: May 1, 2012 (77 FR 25756).

The supplemental letter dated July 6, 2012, provided additional information that clarified the application, did not expand the scope of the application as originally noticed, and did not change the U.S. Nuclear Regulatory Commission staff's original proposed no significant hazards consideration determination as published in the Federal Register on May 1, 2012 (77 FR 25756). The Commission's related evaluation of the amendment is contained in a Safety Evaluation dated December 21, 2012.

No significant hazards consideration comments received: No.

Detroit Edison Company, Docket No. 50-341, Fermi 2, Monroe County, Michigan

Date of application for amendment: January 10, 2012.

Brief description of amendment: The amendment revised Technical Specification (TS) 3.6.2.3, “RHR [Residual Heat Removal] Suppression Pool Cooling,” to specify a new minimum developed RHR pump flow rate in Surveillance Requirement (SR) 3.6.2.3.2. This change brings the flow required in the plant design basis in alignment with the TS SR. The change would increase the operating margin of the RHR Suppression Pool Cooling system to the SR. Also, this change would clarify that SR 3.6.2.3.2 applies to only the RHR pumps required to meet Limiting Condition of Operation (LCO) 3.6.2.3.

Date of issuance: December 21, 2012.

Effective date: As of the date of issuance and shall be implemented within 60 days.

Amendment No.: 191.

Facility Operating License No. NPF-43: Amendment revised the Technical Specifications and License.

Date of initial notice in Federal Register: May 1, 2012 (77 FR 25755).

The Commission's related evaluation of the amendment is contained in a Safety Evaluation dated December 21, 2012.

No significant hazards consideration comments received: No.

Entergy Nuclear Vermont Yankee, LLC and Entergy Nuclear Operations, Inc., Docket No. 50-271, Vermont Yankee Nuclear Power Station, Vernon, Vermont

Date of amendment request: December 22, 2011, as supplemented by letter dated October 3, 2012.

Description of amendment request: The amendment revised the Operating License Condition 3.S to allow Boiling Water Reactor Vessel and Internals Project (BWRVIP)-139-A, “BWR Vessel and Internals Project Steam Dryer Inspection and Flaw Evaluation Guidelines,” to be the basis for future steam dryer monitoring and inspections on an inspection interval of at least every third refueling outage.

Date of Issuance: December 19, 2012.

Effective date: As of the date of issuance, and shall be implemented within 60 days.

Amendment No.: 252.

Facility Operating License No. DPR-28: Amendment revised the Operating License.

Date of initial notice in Federal Register: April 3, 2012 (77 FR 20073).

The supplemental letter dated October 3, 2012, provided additional information that clarified the application, did not expand the scope of the application as originally noticed, and did not change the staff's original proposed no significant hazards consideration determination.

The Commission's related evaluation of this amendment is contained in a Safety Evaluation dated December 19, 2012.

No significant hazards consideration comments received: No.

Entergy Operations, Inc., Docket No. 50-382, Waterford Steam Electric Station, Unit 3, St. Charles Parish, Louisiana

Date of amendment request: November 11, 2011, as supplemented by letter dated November 26, 2012.

Brief description of amendment: The amendment relocated the following Technical Specifications (TS) to the Waterford Steam Electric Station, Unit 3, Technical Requirements Manual: (a) TS 3.4.6, “Chemistry,” (b) TS 3.7.5, “Flood Protection,” (c) TS 3.7.9, “Sealed Source Contamination,” and (d) TS 3.9.5, “Communications.”

Date of issuance: December 20, 2012.

Effective date: As of the date of issuance and shall be implemented within 90 days from the date of issuance.

Amendment No.: 238.

Facility Operating License No. NPF-38: The amendment revised the Facility Operating License and Technical Specifications.

Date of initial notice in Federal Register: April 17, 2012 (77 FR 22814). The supplemental letter dated November 26, 2012, provided additional information that clarified the application, did not expand the scope of the application as originally noticed, and did not change the staff's original proposed no significant hazards consideration determination as published in the Federal Register on April 17, 2012 (77 FR 22814).

The Commission's related evaluation of the amendment is contained in a Safety Evaluation dated December 20, 2012.

No significant hazards consideration comments received: No.

Entergy Operations, Inc., Docket No. 50-382, Waterford Steam Electric Station, Unit 3, St. Charles Parish, Louisiana

Date of amendment request: June 28, 2012.

Brief description of amendment: The amendment revised the scope of Cyber Security Plan (CSP) Implementation Schedule Milestone #6 and paragraph 2.E of the facility operating license. The amendment modified the scope of Milestone #6 to apply to the technical cyber security controls only. The operational and management controls, as described in Nuclear Energy Institute (NEI) 08-09, Revision 6, would be implemented concurrent with the full implementation of the cyber security program (Milestone #8). Thus, all CSP activities would be fully implemented by the completion date, currently identified in Milestone #8 of the licensee's CSP implementation schedule.

Date of issuance: December 20, 2012.

Effective date: As of the date of issuance and shall be implemented by December 31, 2012.

Amendment No.: 239.

Facility Operating License No. NPF-38: The amendment revised the Facility Operating License.

Date of initial notice in Federal Register: October 9, 2012 (77 FR 61437).

The Commission's related evaluation of the amendment is contained in a Safety Evaluation dated December 20, 2012.

No significant hazards consideration comments received: No.

Florida Power and Light Company, et al., Docket Nos. 50-335 and 50-389, St. Lucie Plant, Unit Nos. 1 and 2, St. Lucie County, Florida

Date of application for amendments: June 21, 2012.

Brief description of amendments: Amendments modify paragraph 3.F, “Physical Protection,” of the licenses of both units. The changes revise the scope of Cyber Security Plan Implementation Schedule Milestone No. 6.

Date of Issuance: December 17, 2012.

Effective Date: These license amendments are effective as of the date of their issuance and shall be implemented by December 31, 2012.

Amendment Nos.: Unit 1—214 and Unit 2—164.

Renewed Facility Operating License Nos. DPR-67 and NPF-16: Amendments revised the license.

Date of initial notice in Federal Register: October 9, 2012 (77 FR 61438). The Commission's related evaluation of the amendments is contained in a Safety Evaluation dated December 17, 2012.

No significant hazards consideration comments received: No.

Florida Power and Light Company, Docket Nos. 50-250 and 50-251, Turkey Point Plant, Units 3 and 4, Miami-Dade County, Florida

Date of application for amendments: June 13, 2012.

Brief description of amendments: Amendments modify paragraph 3.E, “Physical Protection,” of the licenses of both units. The changes revise the scope of Cyber Security Plan Implementation Schedule Milestone No. 6.

Date of Issuance: December 17, 2012.

Effective Date: These license amendments are effective as of the date of their issuance and shall be implemented by December 31, 2012.

Amendment Nos.: Unit 3—256 and Unit 4—252.

Renewed Facility Operating License Nos. DPR-31 and DPR-41: Amendments revised the license.

Date of initial notice in Federal Register: September 11, 2012 (77 FR 55872). The Commission's related evaluation of the amendments is contained in a Safety Evaluation dated December 17, 2012.

No significant hazards consideration comments received: No.

Indiana Michigan Power Company, Docket Nos. 50-315 and 50-316, Donald C. Cook Nuclear Plant, Unit 1, Berrien County, Michigan

Date of application for amendments: September 11, 2012.

Brief description of amendments: The amendments approve changes to the Cyber Security Plan Implementation Schedule for Milestone 6 at the Donald C. Cook Nuclear Power Plant, Units 1 and 2.

Date of issuance: December 13, 2012.

Effective date: As of the date of issuance and shall be implemented by December 31, 2012.

Amendment Nos.: 319, 303.

Facility Operating License No. DPR-58 and DPR-74: Amendments revise the Renewed Facility Operating License.

Date of initial notice in Federal Register: October 9, 2012 (77 FR 61438).

The Commission's related evaluation of the amendment is contained in a Safety Evaluation dated December 13, 2012.

No significant hazards consideration comments received: No.

Nebraska Public Power District, Docket No. 50-298, Cooper Nuclear Station, Nemaha County, Nebraska

Date of amendment request: June 27, 2012.

Brief description of amendment: The amendment revised the scope of Cyber Security Plan (CSP) Implementation Schedule Milestone #6 and paragraph 2.C.(3) of the renewed facility operating license. The amendment modified the scope of Milestone #6 to apply to the technical cyber security controls only. The operational and management controls, as described in Nuclear Energy Institute (NEI) 08-09, Revision 6, would be implemented concurrent with the full implementation of the cyber security program (Milestone #8). Thus, all CSP activities would be fully implemented by the completion date, currently identified in Milestone #8 of the licensee's CSP implementation schedule.

Date of issuance: December 13, 2012.

Effective date: As of the date of issuance and shall be implemented by December 31, 2012.

Amendment No.: 244.

Renewed Facility Operating License No. DPR-46: Amendment revised the Facility Operating License.

Date of initial notice in Federal Register: October 9, 2012 (77 FR 61439).

The Commission's related evaluation of the amendment is contained in a Safety Evaluation dated December 13, 2012.

No significant hazards consideration comments received: No.

South Carolina Electric and Gas Company, South Carolina Public Service Authority, Docket No. 50-395, Virgil C. Summer Nuclear Station, Unit No. 1, Fairfield County, South Carolina

Date of application for amendment: August 30, 2012.

Brief description of amendment: The amendment includes a deviation to the scope of the Cyber Security Plan Implementation Schedule Milestone 6 and a revision to the Facility Operating License Condition 2.E to include the deviation.

Date of issuance: December 21, 2012.

Effective date: This license amendment is effective as of the date of its issuance.

Amendment No.: 193.

Renewed Facility Operating License No. NPF-12: Amendment revises the License.

Date of initial notice in Federal Register: October 9, 2012 (77 FR 61440).

The Commission's related evaluation of the amendment is contained in a Safety Evaluation dated December 21, 2012.

No significant hazards consideration comments received: No.

Wolf Creek Nuclear Operating Corporation, Docket No. 50-482, Wolf Creek Generating Station, Coffey County, Kansas

Date of amendment request: May 2, 2012, as supplemented by letter dated October 15, 2012.

Brief description of amendment: The amendment revised Technical Specification (TS) 3.6.6, “Containment Spray and Cooling Systems,” to replace the current 10-year surveillance frequency for testing the containment spray nozzles, as specified in TS Surveillance Requirement 3.6.6.8, with an event-based frequency.

Date of issuance: December 21, 2012.

Effective date: As of its date of issuance and shall be implemented within 90 days of issuance.

Amendment No.: 203.

Renewed Facility Operating License No. NPF-42: The amendment revised the Operating License and Technical Specifications.

Date of initial notice in Federal Register: September 4, 2012 (77 FR 53931). The supplemental letter dated October 15, 2012, provided additional information that clarified the application, did not expand the scope of the application as originally noticed, and did not change the staff's original proposed no significant hazards consideration determination as published in the Federal Register.

The Commission's related evaluation of the amendment is contained in a Safety Evaluation dated December 21, 2012. No significant hazards consideration comments received: No.

Dated at Rockville, Maryland, this 27th day of December 2012.
For The Nuclear Regulatory Commission.
Michele G. Evans,
Director, Division of Operating Reactor Licensing, Office of Nuclear Reactor Regulation.

[FR Doc. 2012-31710 Filed 1-7-13; 8:45 am]

BILLING CODE 7590-01-P